NUCLEAR REGULATORY COMMISSION

[Docket No. 50-271]

Vermont Yankee Nuclear Power Corporation; Correction

The October 18, 2000, Federal Register contained a “Notice of Consideration of Issuance of Amendment to Facility Operating License, Proposed No Significant Hazards Consideration Determination, and Opportunity for a Hearing,” (65 FR 62393) for the Vermont Yankee Nuclear Power Station. This notice offered an opportunity for comment or hearing requests.

Inadvertently, this was the second offering of such opportunity as a notice had already been published in the September 27, 2000, Federal Register (65 FR 68111). The 30-day comment/hearing request deadline is October 27, 2000, at 4:15 p.m. as stated in the September 27, 2000, Federal Register.

Dated at Rockville, Maryland this 26th day of October 2000.
For the Nuclear Regulatory Commission.
Richard P. Croteau, Sr.,
Project Manager, Section 2, Project Directorate I, Division of Licensing Project Management, Office of Nuclear Reactor Regulation.

[FR Doc. 00-28034 Filed 10-31-00; 8:45 am]

BILLING CODE 7590-01-M